FEDERAL TRADE COMMISSION

16 CFR Chapter I

Trade Regulation Rule on Commercial Surveillance and Data Security

AGENCY: Federal Trade Commission.

ACTION: Advance notice of proposed rulemaking; extension of comment period.

SUMMARY: The Federal Trade Commission (“FTC” or “Commission”) is extending the deadline for filing comments on its advance notice of proposed rulemaking (“ANPR”) regarding whether the Commission should prescribe new trade regulation rules or other regulatory alternatives concerning commercial surveillance and data security practices that are prevalent and unfair or deceptive.

DATES: The deadline for comments on the advance notice of proposed rulemaking published August 22, 2022 (87 FR 51273) is extended. Comments must be received on or before November 21, 2022.

ADDRESSES: Interested parties may file a comment online or on paper by following the instructions in the Comment Submissions part of the SUPPLEMENTARY INFORMATION section below. Write “Commercial Surveillance ANPR, R111004” on your comment, and file your comment online at https://www.regulations.gov. If you prefer to file your comment on paper, mail your comment to the following address: Federal Trade Commission, Office of the Secretary, 600 Pennsylvania Avenue NW, Suite CC-5610 (Annex B), Washington, DC 20580.

FOR FURTHER INFORMATION CONTACT: James Trilling, 202-326-3497; Peder Magee, 202-326-3538; Olivier Sylvain, 202-326-3046; or commercialsurveillancerm@ftc.gov.

SUPPLEMENTARY INFORMATION:

I. Comment Period Extension

On August 22, 2022 (87 FR 51273), the Commission published in the Federal Register an advance notice of proposed rulemaking concerning Trade Regulation Rule on Commercial Surveillance and Data Security (“ANPR”), with an October 21, 2022 deadline for filing comments. The Commission published the ANPR to seek public comments on the prevalence of commercial surveillance and data security practices that are unfair or deceptive acts or practices under the Federal Trade Commission Act and whether the Commission should prescribe new trade regulation rules or other regulatory alternatives to address them. Interested parties have subsequently requested an extension of the public comment period to give them additional time to respond to the ANPR's requests for comment.¹

¹ See Cmt. of NTCA—The Rural Broadband Association, Docket ID FTC-2022-0053 (Oct. 6, 2022), https://www.regulations.gov/comment/FTC-2022-0053-0142; Cmt. of Am. Escrow Ass'n et al., Docket ID FTC-2022-0053 (Sept. 26, 2022), https://www.regulations.gov/comment/FTC-2022-0053-0105.

The Commission agrees that allowing additional time for filing comments in response to the ANPR would help facilitate the creation of a more complete record. The Commission has therefore decided to extend the comment period for 31 days, to November 21, 2022. A 31-day extension will provide commenters adequate time to address the issues raised in the ANPR.

II. Request for Comment

You can file a comment online or on paper. For the Commission to consider your comment, we must receive it on or before November 21, 2022. Write “Commercial Surveillance ANPR, R111004” on the comment. Your comment—including your name and your state—will be placed on the public record of this proceeding, including, to the extent practicable, on the https://www.regulations.gov website. The Commission strongly encourages you to submit your comment online through the https://www.regulations.gov website. To ensure the Commission considers your online comment, please follow the instructions on the web-based form.

If you file your comment on paper, write “Commercial Surveillance ANPR, R111004” on your comment and on the envelope, and mail your comment to the following address: Federal Trade Commission, Office of the Secretary, 600 Pennsylvania Avenue NW, Suite CC-5610 (Annex B), Washington, DC 20580.

Because your comment will be placed on the public record, you are solely responsible for making sure that your comment does not include any sensitive or confidential information. In particular, your comment should not contain sensitive personal information, such as your or anyone else's Social Security number; date of birth; driver's license number or other state identification number or foreign country equivalent; passport number; financial account number; or credit or debit card number. You are also solely responsible for making sure your comment does not include any sensitive health information, such as medical records or other individually identifiable health information. In addition, your comment should not include any “[t]rade secret or any commercial or financial information which . . . is privileged or confidential”—as provided in Section 6(f) of the FTC Act, 15 U.S.C. 46(f), and FTC Rule 4.10(a)(2), 16 CFR 4.10(a)(2)—including in particular competitively sensitive information such as costs, sales statistics, inventories, formulas, patterns, devices, manufacturing processes, or customer names.

Comments containing material for which confidential treatment is requested must be filed in paper form, must be clearly labeled “Confidential,” and must comply with FTC Rule 4.9(c). In particular, the written request for confidential treatment that accompanies the comment must include the factual and legal basis for the request and must identify the specific portions of the comment to be withheld from the public record. See FTC Rule 4.9(c). Your comment will be kept confidential only if the General Counsel grants your request in accordance with the law and the public interest. Once your comment has been posted publicly at https://www.regulations.gov—as legally required by FTC Rule 4.9(b)—we cannot redact or remove your comment, unless you submit a confidentiality request that meets the requirements for such treatment under FTC Rule 4.9(c), and the General Counsel grants that request.

Visit the FTC website to read this document and the news release describing it. The FTC Act and other laws that the Commission administers permit the collection of public comments to consider and use in this proceeding as appropriate. The Commission will consider all timely and responsive public comments it receives on or before November 21, 2022. For information on the Commission's privacy policy, including routine uses permitted by the Privacy Act, see https://www.ftc.gov/siteinformation/privacy-policy.

By direction of the Commission, Commissioner Wilson abstaining.
April J. Tabor,
Secretary.

[FR Doc. 2022-22813 Filed 10-19-22; 8:45 am]

BILLING CODE 6750-01-P